FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The Federal Trade Commission and the Assistant Attorney General for the Antitrust Division of the Department of Justice made the grants. Neither agency intends to take any action with respect to these proposed acquisitions during the applicable waiting period.

Early Terminations Granted
[November 1, 2020 thru November 30, 2020]
11/02/2020
20201482 | G | SLP BHN Investor, L.L.C.; NGC Investors, LLC; SLP BHN Investor, L.L.C.
11/03/2020
20200426 | S | Stryker Corporation; Wright Medical Group N.V.; Stryker Corporation
20201508 | G | Eclipse Topco Holdings, L.P.; Phillip M. Hutchinson; Eclipse Topco Holdings, L.P.
20210057 | G | Sachem Head LP; Elanco Animal Health Incorporated; Sachem Head LP.
20210058 | G | Sachem Head Offshore Ltd.; Elanco Animal Health Incorporated; Sachem Head Offshore Ltd.
20210059 | G | Scott D. Ferguson; Elanco Animal Health Incorporated; Scott D. Ferguson.
20210064 | G | THL HT Parallel SPV, L.P.; HT Holding, LLC; THL HT Parallel SPV, L.P.
20210079 | G | Caterpillar Inc.; The Weir Group PLC; Caterpillar Inc.
20210113 | G | Chamath Palihapitya; Niru Pothula Rainier; Chamath Palihapitya.
20210114 | G | Polhem Infra Kommanditbolag; Telia Company AB; Polhem Infra Kommanditbolag.
20210116 | G | Investindustrial VII L.P.; Hexion Inc.; Investindustrial VII L.P.
20210120 | G | DB5 No. 1 Trust; Vestar Capital Partners VI, L.P.; DB5 No. 1 Trust.
20210123 | G | Helios Technologies, Inc.; AEA Investors Small Business Fund II LP; Helios Technologies, Inc.
20210124 | G | Haymaker Acquisition Corp. II; Arko Holdings Ltd.; Haymaker Acquisition Corp. II.
20210125 | G | Stable Road Acquisition Corp.; Momentus Inc.; Stable Road Acquisition Corp.
11/04/2020
20201542 | G | KAR Auction Services, Inc.; BacklotCars, Inc.; KAR Auction Services, Inc.
20210044 | G | The E.W. Scripps Company; BDCM Opportunity Fund II, L.P.; The E.W. Scripps Company.
20210131 | G | The Resolute Fund IV, L.P.; PQ Group Holdings Inc.; The Resolute Fund IV, L.P.
20210135 | G | Davidson Kempner Long-Term Distressed; Newco; Davidson Kempner Long-Term Distressed.
20210136 | G | Davidson Kempner Long-Term Distressed Opportunities; Newco; Davidson Kempner Long-Term Distressed Opportunities.
20210138 | G | Mubadala Investment Company PJSC; Electricite de France S.A.; Mubadala Investment Company PJSC.
20210142 | G | Thoma Bravo Fund XIII-A, L.P.; Alexander Tsigutkin; Thoma Bravo Fund XIII-A, L.P.
20210146 | G | Verizon Communications Inc.; Kentucky RSA #3 Cellular General Partnership; Verizon Communications Inc.
20210147 | G | Verizon Communications Inc.; Duo County Telephone Cooperative Corporation, Inc.; Verizon Communications Inc.
20210148 | G | Verizon Communications Inc.; South Central Rural Telecommunications Cooperative, Inc.; Verizon Communications Inc.
20210149 | G | Verizon Communications Inc.; Brandenburg Communications Corporation; Verizon Communications Inc.
20210160 | G | LG Parent Holdco Inc.; Libbey Glass LLC; LG Parent Holdco Inc.
20210167 | G | Replay Acquisition Corp.; BTO Urban Holdings L.L.C.; Replay Acquisition Corp.
20210175 | G | PAE Incorporated; Harold and Barbara Rosenbaum; PAE Incorporated.
11/05/2020
20210119 | G | Mermaid EquityCo L.P.; Datasite Global Corporation; Mermaid EquityCo L.P.
11/09/2020
20201244 | G | Uber Technologies, Inc.; Postmates Inc.; Uber Technologies, Inc.
11/10/2020
20201141 | S | Koninklijke Ahold Delhaize N.V.; Southeastern Grocers, Inc.; Koninklijke Ahold Delhaize N.V.
20210163 | G | Archimedes Advisors LLC; OEC Holdings 4 L.P.; Archimedes Advisors LLC.
20210164 | G | Vista Equity Partners Fund VII-A, L.P.; Francisco Partners IV, L.P.; Vista Equity Partners Fund VII-A, L.P.
20210169 | G | Archimedes Advisors LLC; Software Luxembourg Holding S.A.; Archimedes Advisors LLC.
20210170 | G | Golden Gate Capital Opportunity Fund, L.P.; Covia Holdings Corporation; Golden Gate Capital Opportunity Fund, L.P.
20210174 | G | Sun Life Financial, Inc.; Crescent Capital Group Holdings LP; Sun Life Financial, Inc.
20210177 | G | Sandvik AB; Jon Lee Prun & Linda Louise Prun; Sandvik AB.
20210179 | G | Kinecta Federal Credit Union; Xceed Financial Federal Credit Union; Kinecta Federal Credit Union.
20210180 | G | Cboe Global Markets, Inc.; BIDS Holdings L.P.; Cboe Global Markets, Inc.
20210181 | G | Aflac Incorporated; Trupanion, Inc.; Aflac Incorporated.
20210182 | G | GI Data Infrastructure Fund-A LP; Python Holdings, L.P.; GI Data Infrastructure Fund-A LP.
20210183 | G | ICG Cheetah Partners LP; GLO HoldCo S.C.A.; ICG Cheetah Partners LP.
20210188 | G | Reyes Holdings, L.L.C.; Monarch Beverage Co., Inc.; Reyes Holdings, L.L.C.
20210192 | G | Morgan Stanley; Eaton Vance Corp.; Morgan Stanley.
20210196 | G | FS Equity Partners VIII, L.P.; ORG USME Holdings, LLC; FS Equity Partners VIII, L.P.
20210208 | G | SMART Global Holdings, Inc.; Cree, Inc.; SMART Global Holdings, Inc.
20210210 | G | New Mountain Partners V, L.P.; Aurobindo Pharma Limited; New Mountain Partners V, L.P.
20210211 | G | Arcline Capital Partners LP; Evans Holding Company, Inc.; Arcline Capital Partners LP.
20210212 | G | GSM Equity Investors, LP; Sentinel Capital Partners V, L.P.; GSM Equity Investors, LP.
20210214 | G | 2781807 Ontario Limited; Parthenon Investors V HM-AIV, L.P.; 2781807 Ontario Limited.
20210216 | G | MiddleGround Partners I, L.P.; Rosemary Atwood; MiddleGround Partners I, L.P.
20210217 | G | EQRx, Inc.; CStone Pharmaceuticals; EQRx, Inc.
20210220 | G | Reyes Holdings, LLC; Donald A. Bottomley; Reyes Holdings, LLC.
20210222 | G | Reyes Holdings, L.L.C.; George W. Couch III; Reyes Holdings, L.L.C.
20210228 | G | Panacea Acquisition Corp.; Nuvation Bio Inc.; Panacea Acquisition Corp.
20210229 | G | Syneos Health, Inc.; SHCR Holdings, LLC; Syneos Health, Inc.
20210231 | G | Warburg Pincus Global Growth, L.P.; Sweep America Holdings, LLC; Warburg Pincus Global Growth, L.P.
20210234 | G | Summit Partners Growth Equity Fund X-A, L.P; The Resolute Fund IV, L.P.; Summit Partners Growth Equity Fund X-A, L.P.
11/12/2020
20210133 | G | Starboard Value and Opportunity Fund Ltd.; ON Semiconductor Corporation; Starboard Value and Opportunity Fund Ltd.
20210171 | G | Westport Acquisition Parent LP; Allscripts Healthcare Solutions, Inc.; Westport Acquisition Parent LP.
20210197 | G | EQT Corporation; Chevron Corporation; EQT Corporation.
20210207 | G | Pioneer Natural Resources Company; Parsley Energy, Inc.; Pioneer Natural Resources Company.
20210224 | G | EPCOR Utilities Inc.; George H. Johnson and Jana S. Johnson; EPCOR Utilities Inc.
11/13/2020
20201239 | G | MasterCard Incorporated; Finicity Corporation; MasterCard Incorporated.
20201525 | G | Builders FirstSource, Inc.; BMC Stock Holdings, Inc.; Builders FirstSource, Inc.
20210159 | G | Allied Universal Topco LLC; G4S plc; Allied Universal Topco LLC.
20210178 | G | General Atlantic Partners 100, L.P.; JumpCloud Inc.; General Atlantic Partners 100, L.P.
20210209 | G | Blackstone Capital Partners (Cayman) VII L.P.; Tritium I, LP; Blackstone Capital Partners (Cayman) VII L.P.
11/16/2020
20210200 | G | Twin River Worldwide Holdings, Inc.; Mr. Jeremy M. Jacobs; Twin River Worldwide Holdings, Inc.
11/18/2020
20210132 | G | Starboard Value and Opportunity Fund Ltd.; ACI Worldwide, Inc.; Starboard Value and Opportunity Fund Ltd.
20210195 | G | Clearlake Capital Partners V, L.P.; TractManager Holdings, LLC; Clearlake Capital Partners V, L.P.
20210233 | G | Arch Capital Group Ltd.; Watford Holdings Ltd.; Arch Capital Group Ltd.
20210238 | G | Francisco Partners V, L.P.; Kevin A. Plank; Francisco Partners V, L.P.
20210241 | G | Hexagon AB; Eddie Habibi; Hexagon AB.
20210242 | G | GI Partners Fund VI LP; Ares Corporate Opportunities Fund IV, L.P.; GI Partners Fund VI LP.
20210243 | G | Vista Equity Partners Fund V, L.P.; Information Builders, Inc.; Vista Equity Partners Fund V, L.P.
20210244 | G | Centerbridge Capital Partners III, L.P.; Syncapay, Inc.; Centerbridge Capital Partners III, L.P.
20210246 | G | Waterfall EIT Cayman LP; Alternative Credit Investments plc; Waterfall EIT Cayman LP.
20210247 | G | Centerbridge Capital Partners III, L.P.; Wirecard AG; Centerbridge Capital Partners III, L.P.
20210248 | G | Repligen Corporation; Michael Gagne; Repligen Corporation.
20210249 | G | Marcelo Camberos; KarpReilly Capital Partners III, L.P.; Marcelo Camberos.
20210252 | G | Paul & Sandra Edgerley; Ross Vogt; Paul & Sandra Edgerley.
20210253 | G | CP VII Evolution Holdings, L.P.; North Haven MP Topco, LLC; CP VII Evolution Holdings, L.P.
20210257 | G | Berkshire Fund IX, L.P.; Paine Schwartz Food Chain Fund IV, L.P.; Berkshire Fund IX, L.P.
20210258 | G | Ocado Group plc; Kindred Systems Inc.; Ocado Group plc.
20210259 | G | Vistria Fund III, LP; TVG Bolt Holdings, LLC; Vistria Fund III, LP.
20210261 | G | London Stock Exchange Group plc; Tritium I, LP; London Stock Exchange Group plc.
11/20/2020
20210161 | G | ANSYS, Inc.; Analytical Graphics, Inc.; ANSYS, Inc.
20210262 | G | CSW Industrials, Inc.; T.A. Industries, Inc.; CSW Industrials, Inc.
20210263 | G | Aphria Inc.; SW Brewing Company, LLC; Aphria Inc.
20210264 | G | The Resolute Fund IV, L.P.; Heartland Home Services Parent, LLC; The Resolute Fund IV, L.P.
20210265 | G | To-Be-Formed Newco; Questel International SAS; To-Be-Formed Newco.
20210266 | G | GoBrands, Inc.; TowerBrook Investors II, L.P.; GoBrands, Inc.
20210267 | G | 1847 Goedeker Inc.; Albert Fouerti; 1847 Goedeker Inc.
20210268 | G | 1847 Goedeker Inc.; Elie Fouerti; 1847 Goedeker Inc.
20210269 | G | Acamar Partners Sponsor I LLC; CarLotz, Inc.; Acamar Partners Sponsor I LLC.
20210270 | G | Teleperformance SE; AP VIII Olympus VoteCo, LLC; Teleperformance SE.
20210271 | G | MidOcean Partners V, L.P.; CenterOak Equity Fund I, L.P.; MidOcean Partners V, L.P.
20210273 | G | Tailwind Capital Partners III, L.P.; Oaktree Power Opportunities Fund IV, L.P.; Tailwind Capital Partners III, L.P.
11/23/2020
20210274 | G | Endure Digital Investment Holdings, L.P.; Endurance International Group Holdings, Inc.; Endure Digital Investment Holdings, L.P.
20210275 | G | RC IB Holding LLC; Dunkin' Brands Group, Inc.; RC IB Holding LLC.
20210276 | G | ACON Equity Partners IV, L.P.; Atlas Capital Resources II (A3) LP; ACON Equity Partners IV, L.P.
20210277 | G | Ritchie Bros. Auctioneers Incorporated; Scott Rouse; Ritchie Bros. Auctioneers Incorporated.
20210278 | G | The Sundance Trust; The Windsong Legacy 2016 Exempt Trust, dated January 1, 2020; The Sundance Trust.
20210280 | G | Alliance Data Systems Corporation; Lon Inc.; Alliance Data Systems Corporation.
20210281 | G | Novo Nordisk Foundation; Emisphere Technologies, Inc.; Novo Nordisk Foundation.
20210282 | G | TruStone Financial Federal Credit Union; Firefly Federal Credit Union; TruStone Financial Federal Credit Union.
20210283 | G | BEP 3 Therma Feeder L.P.; Gemspring Capital Fund I, LP; BEP 3 Therma Feeder L.P.
20210291 | G | Callaway Golf Company; TopGolf International, Inc.; Callaway Golf Company.
20210292 | G | Arthur J. Gallagher & Co.; Anthony J. Mashuta; Arthur J. Gallagher & Co.
20210294 | G | The Resolute Fund IV, L.P.; Bertram Growth Capital III, L.P.; The Resolute Fund IV, L.P.
11/24/2020
20201618 | G | Verizon Communications Inc.; America Movil, S.A.B. de C.V.; Verizon Communications Inc.
11/25/2020
20210162 | G | ArcelorMittal S.A.; Cleveland-Cliffs Inc.; ArcelorMittal S.A.
20210168 | G | Cleveland-Cliffs Inc.; ArcelorMittal S.A.; Cleveland-Cliffs Inc.
20210245 | G | IIF US Holding 2 LP; NuStar Energy L.P.; IIF US Holding 2 LP.
11/30/2020
20210194 | G | Richard Cashin; Glass Holding SA; Richard Cashin.
20210288 | G | Insight PDI Holdings, LLC; Sumeru Equity Partners Fund, L.P.; Insight PDI Holdings, LLC.
20210290 | G | Adobe Inc.; Workfront, Inc.; Adobe Inc.
20210293 | G | WCAS XIII, L.P.; Accel-KKR Capital Partners CV III, LP; WCAS XIII, L.P.
20210297 | G | Boston Scientific Corporation; Preventice Solutions, Inc.; Boston Scientific Corporation.
20210298 | G | TP ICAP Group plc; Liquidnet Holdings, Inc.; TP ICAP Group plc.
20210301 | G | Tony Xu; Doordash, Inc.; Tony Xu.
20210302 | G | Andy Fang; Doordash, Inc.; Andy Fang.

FOR FURTHER INFORMATION CONTACT: Theresa Kingsberry (202-326-3100), Program Support Specialist, Federal Trade Commission Premerger Notification Office, Bureau of Competition, Room CC-5301, Washington, DC 20024.

By direction of the Commission.
April J. Tabor,
Secretary.

[FR Doc. 2021-03184 Filed 2-17-21; 8:45 am]

BILLING CODE 6750-01-P